DEPARTMENT OF AGRICULTURE

Farm Service Agency

Regulatory Streamlining of the Direct Farm Loan Programs; Availability of a Draft Environmental Assessment and a Draft Finding of No Significant Impact

AGENCY: Farm Service Agency, USDA.

ACTION: Notice of availability and request for comments.

SUMMARY: The Farm Service Agency (FSA) announces the availability of the Draft Environmental Assessment (EA) and Draft Finding of No Significant Impact (FONSI) for the Regulatory Streamlining of FSA's Direct Farm Loan Programs regulations for public review and comment. The EA has been prepared in accordance with the requirements of the National Environmental Policy Act of 1969 as amended (NEPA); Council on Environmental Quality regulations implementing NEPA at 40 CFR parts 1500-1508; and FSA NEPA regulations at 7 CFR part 1940, subpart G.

DATES: Comments should be submitted by May 19, 2004, to be assured consideration. Comments received after that date will be considered to the extent practical.

ADDRESSES: FSA invites interested persons to submit comments on the EA and FONSI. Comments may be submitted by any of the following methods:

• E-Mail: Send comments to james_fortner@wdc.fsa.usda.gov.

• Fax: Submit comments by facsimile transmission to: (202) 720-4619.

• Mail: Send comments to James P. Fortner, National Environmental Compliance Manager, Conservation and Environmental Protection Division (CEPD), Farm Service Agency, Stop Code 0513, 1400 Independence Ave., SW., Washington, DC 20250-0513.

• Hand Delivery or Courier: Deliver comments to the above address.

Comments may be inspected in the Office of the Director, CEPD, FSA, USDA, Room 4714 South Building, 1400 Independence Ave., SW., Washington, DC between 8 a.m. and 4:30 p.m., Monday through Friday, except holidays.

FOR FURTHER INFORMATION CONTACT: For a copy of the draft EA or for further information, contact James P. Fortner, National Environmental Compliance Manager, telephone (202) 720-5533; fax (202) 720-4619; e-mail jfortner@wdc.usda.gov. The draft EA and associated FONSI are also available on FSA's Web site at http://www.fsa.usda.gov/dafp/cepd/epb/assessments.htm.

SUPPLEMENTARY INFORMATION: FSA published a proposed rule February 9, 2004 (69 FR 6055), that will: Simplify and clarify direct loan regulations; implement the recommendations of the USDA Civil Rights Action Team; meet the objectives of the Paperwork Reduction Act of 1995; meet the goals and objectives of the National Performance Review; and separate FSA's direct farm loan program regulations from the Rural Development mission area loan program regulations. The draft EA evaluates the potential impacts to the human environment associated with this proposed streamlining of the regulations governing its direct farm loan programs.

On the basis of the draft EA, FSA has concluded that the proposed regulatory action will not result in either short-term, long-term, or cumulative significant adverse impacts to the human environment. Because the proposed regulatory action would not result in significant adverse environmental impacts, FSA concluded that the preparation of a FONSI was appropriate, and therefore, an environmental impact statement is not required.

The basis for the conclusion is supported by the following findings. Cumulative impacts are expected to be minor as implementation of the proposed regulatory action will mainly result in FSA continuing to provide farm ownership, operating and emergency loans and loan servicing actions to farmers and ranchers. Each loan request will be reviewed on a site-specific basis to determine the potential impacts to the human environment.

Title: Draft Environmental Assessment and Finding of No Significant Impact for Regulatory Streamlining of the Farm Service Agency's Direct Farm Loan Programs.

Signed in Washington, DC, April 12, 2004.
Verle E. Lanier,
Acting Administrator, Farm Service Agency.

[FR Doc. 04-8773 Filed 4-16-04; 8:45 am]

BILLING CODE 3450-05-P